DEPARTMENT OF THE INTERIOR

Fish and Wildlife Service

[FWS-R9-FHC-2011-N137; 94300-1122-0000-Z2]

Wind Turbine Guidelines Advisory Committee; Announcement of Public Meeting and Webcast

AGENCY: Fish and Wildlife Service, Interior.

ACTION: Notice of public meeting and webcast.

SUMMARY: We, the U.S. Fish and Wildlife Service (Service), will host a Wind Turbine Guidelines Advisory Committee (Committee) meeting in-person and via webcast. The meeting and webcast are open to the public. The meeting agenda will include a presentation and discussion of the Service's Draft Land-Based Wind Energy Guidelines.

DATES: The meeting and webcast will take place over 2 days: On July 20, from 8:30 a.m. to 5 p.m., and on July 21, from 8:30 a.m. to 12 p.m. Eastern Time. If you are a member of the public wishing to attend in person or participate via webcast, you must register online no later than July 13, 2011 (see “Meeting Participation Information” under SUPPLEMENTARY INFORMATION).

ADDRESSES: Meeting Location: Holiday Inn Ballston, 4610 N Fairfax Drive, Arlington, VA 22203. (See “Meeting Location Information” under SUPPLEMENTARY INFORMATION). Instructions for webcast participants will be given upon registration.

FOR FURTHER INFORMATION CONTACT: Rachel London, Division of Habitat and Resource Conservation, U.S. Fish and Wildlife Service, U.S. Department of the Interior, (703) 358-2161.

SUPPLEMENTARY INFORMATION:

Background

On March 13, 2007, the Department of the Interior published a notice of establishment of the Committee in the Federal Register (72 FR 11373). The Committee's purpose is to provide advice and recommendations to the Secretary of the Interior (Secretary) on developing effective measures to avoid or minimize impacts to wildlife and their habitats related to land-based wind energy facilities. All Committee members serve without compensation. In accordance with the Federal Advisory Committee Act (5 U.S.C. App.), a copy of the Committee's charter is filed with the Committee Management Secretariat, General Services Administration; Committee on Environment and Public Works, U.S. Senate; Committee on Natural Resources, U.S. House of Representatives; and the Library of Congress. The Secretary appointed 22 individuals to the Committee on October 24, 2007, representing the varied interests associated with wind energy development and its potential impacts to wildlife species and their habitats. The Committee provided its recommendations to the Secretary on March 4, 2010.

Draft Land-Based Wind Energy Guidelines

The Draft Land-Based Wind Energy Guidelines were made available for public comment on February 18, 2011, with a comment-period ending date of May 19, 2011 (76 FR 9590). The purpose of the Guidelines, once finalized, will be to provide recommendations on measures to avoid, minimize, and compensate for effects to fish, wildlife, and their habitats.

Meeting Location Information

Please note that the meeting location is accessible to wheelchair users. If you require additional accommodations, please notify us at least 1 week in advance of the meeting.

Meeting Participation Information

All Committee meetings are open to the public. The public has an opportunity to comment at all Committee meetings.

We require that all persons planning to attend in person or participate via webcast register at http://www.fws.gov/windenergy no later than July 13, 2011. We will give preference to registrants based on date and time of registration. Limited standing room at the meeting may be available if all seats are filled.

Date: June 27, 2011.
Rachel London,
Alternate Designated Federal Officer, Wind Turbine Guidelines Advisory Committee.

[FR Doc. 2011-16527 Filed 6-30-11; 8:45 am]

BILLING CODE 4310-55-P